SMALL BUSINESS ADMINISTRATION

[Disaster Declaration #12822 and #12823]

Pennsylvania Disaster Number PA-00044

AGENCY: U.S. Small Business Administration.

ACTION: Amendment 4.

SUMMARY: This is an amendment of the Presidential declaration of a major disaster for the State of

Pennsylvania (FEMA-4030-DR), dated 09/12/2011 .

Incident: Tropical Storm Lee.

Incident Period: 09/03/2011 through 10/15/2011.

DATES: Effective Date: 11/04/2011.

Physical Loan Application Deadline Date: 12/14/2011.

Eidl Loan Application Deadline Date: 06/12/2012.

ADDRESSES: Submit completed loan applications to: U.S. Small Business Administration, Processing And Disbursement Center, 14925 Kingsport Road, Fort Worth, TX 76155.

FOR FURTHER INFORMATION CONTACT: A Escobar, Office of Disaster Assistance, U.S. Small Business Administration, 409 3rd Street SW., Suite 6050, Washington, DC 20416.

SUPPLEMENTARY INFORMATION: The notice of the President's major disaster declaration for the State of Pennsylvania, dated 09/12/2011 is hereby amended to extend the deadline for filing applications for physical damages as a result of this disaster to 12/14/2011.

All other information in the original declaration remains unchanged.

(Catalog of Federal Domestic Assistance Numbers 59002 and 59008)

James E. Rivera,
Associate Administrator for Disaster Assistance.

[FR Doc. 2011-29214 Filed 11-10-11; 8:45 am]

BILLING CODE 8025-01-P